DEPARTMENT OF ENERGY

Federal Energy Regulatory Commission

Combined Notice of Filings

Take notice that the Commission has received the following Natural Gas Pipeline Rate and Refund Report filings:

Filings Instituting Proceedings

Docket Numbers: PR15-8-000.

Applicants: Liberty Utilities (Midstates Natural Gas) Corp.

Description: Tariff filing per 284.123/.224: Compliance Filing to be effective 10/6/2014; TOFC: 790.

Filed Date: 11/24/14.

Accession Number: 20141124-5245.

Comments Due: 5 p.m. ET 12/4/14.

284.123(g) Protests Due:

Docket Numbers: RP12-308-000.

Applicants: Golden Pass Pipeline LLC.

Description: Compliance filing per 154.501: 2014 Annual Report of Penalty Revenue and Costs of Golden Pass Pipeline.

Filed Date: 11/24/14.

Accession Number: 20141124-5119.

Comments Due: 5 p.m. ET 12/8/14.

Docket Numbers: RP15-181-000.

Applicants: WestGas InterState, Inc.

Description: Tariff Withdrawal per 154.205(a): Withdraw WGI Compliance.

Filed Date: 11/24/14.

Accession Number: 20141124-5228.

Comments Due: 5 p.m. ET 12/8/14.

Docket Numbers: RP15-198-000.

Applicants: Southern Natural Gas Company, L.L.C.

Description: Annual Storage Cost Reconciliation Mechanism Report of Southern Natural Gas Company, L.L.C.

Filed Date: 11/24/14.

Accession Number: 20141124-5171.

Comments Due: 5 p.m. ET 12/8/14.

Docket Numbers: RP15-199-000.

Applicants: Algonquin Gas Transmission, LLC.

Description: § 4(d) rate filing per 154.204: Negotiated Rate Releases—Great Western to EDF eff 12-1-2014 to be effective 12/1/2014.

Filed Date: 11/24/14.

Accession Number: 20141124-5200.

Comments Due: 5 p.m. ET 12/8/14.

Docket Numbers: RP15-200-000.

Applicants: Central New York Oil And Gas, L.L.C.

Description: § 4(d) rate filing per 154.204: Filing of Negotiated Rate Agreements to be effective 12/1/2014.

Filed Date: 11/24/14.

Accession Number: 20141124-5229.

Comments Due: 5 p.m. ET 12/8/14.

Docket Numbers: RP15-201-000.

Applicants: KPC Pipeline, LLC.

Description: Request for Waiver of Tariff Provision Requiring the Filing of an Annual Interruptible Transportation Revenue Crediting Report of KPC Pipeline, LLC.

Filed Date: 11/24/14.

Accession Number: 20141124-5273.

Comments Due: 5 p.m. ET 12/8/14.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

Filings in Existing Proceedings

Docket Numbers: PR14-8-001.

Applicants: Columbia Gas of Ohio, Inc.

Description: Tariff filing per 284.123/.224: Amended Application for Approval of a Baseline Statement of Operating Conditions to be effective 11/21/2013; TOFC: 790.

Filed Date: 11/21/14.

Accession Number: 20141121-5120.

Comments Due: 5 p.m. ET 12/1/14.

284.123(g) Protests Due:

Docket Numbers: RP14-972-002.

Applicants: Kern River Gas Transmission Company.

Description: Compliance filing per 154.203: 2014 OCSC Compliance 2nd Revised Filing to be effective 10/16/2014.

Filed Date: 11/24/14.

Accession Number: 20141124-5111.

Comments Due: 5 p.m. ET 12/8/14.

Docket Numbers: RP15-50-001.

Applicants: American Midstream (AlaTenn), LLC.

Description: Compliance filing per 154.203: AlaTenn Compliance Filing in RP15-50 to be effective 4/15/2015.

Filed Date: 11/24/14.

Accession Number: 20141124-5172.

Comments Due: 5 p.m. ET 12/8/14.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 25, 2014.
Nathaniel J. Davis, Sr.,
Deputy Secretary.

[FR Doc. 2014-28431 Filed 12-2-14; 8:45 am]

BILLING CODE 6717-01-P